DEPARTMENT OF HEALTH AND HUMAN SERVICES

Health Resources and Services Administration

Centers for Disease Control and Prevention (CDC)/Health Resources and Services Administration (HRSA) Advisory Committee on HIV, Viral Hepatitis, and Sexually Transmitted Disease (STD) Prevention and Treatment

AGENCY: Health Resources and Services Administration (HRSA), HHS.

ACTION: Notice; correction.

SUMMARY: The Health Resources and Services Administration published a notice in the Federal Register, FR 2014-25199 (October 23, 2014), announcing the meeting for the Centers for Disease Control and Prevention (CDC)/Health Resources and Services Administration (HRSA) Advisory Committee on HIV, Viral Hepatitis and STD Prevention and Treatment. The action is to provide correction to the virtual meeting audio access code.

Correction: In the Federal Register, FR 2014-25199 (October 23, 2014), please make the following corrections:

Join the meeting by:

1. (Audio Portion) Calling the Toll free Phone Number 1-888-942-8515 and providing the Participant Pass Code 9582370, and

2. (Visual Portion) Connecting to the Advisory Committee Adobe Connect Pro Meeting using the following URL: https://hrsa.connectsolutions.com/cdchrsa_advcmt/.

Dated: October 29, 2014.
Jackie Painter,
Acting Director, Division of Policy and Information Coordination.

[FR Doc. 2014-26225 Filed 11-4-14; 8:45 am]

BILLING CODE 4165-15-P